FEDERAL COMMUNICATIONS COMMISSION

47 CFR Part 87

[WT Docket No. 01-289; FCC 03-238]

Aviation Communications

AGENCY: Federal Communications Commission.

ACTION: Proposed rule.

SUMMARY: In this document the Commission solicits comment on proposed rules that are intended to accommodate technological advances, facilitate operational flexibility, and promote spectral efficiency in the Aviation Radio Service.

DATES: Submit comments on or before July 12, 2004, and reply comments are due on or before August 10, 2004.

ADDRESSES: Federal Communications Commission, 445 12th Street, SW., Washington, DC 20554. See SUPPLEMENTARY INFORMATION for filing instructions.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's Further Notice of Proposed Rulemaking (FNPRM) in WT Docket No. 01-289, FCC 03-238, adopted on October 6, 2003, and released on October 16, 2003. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. The FNPRM solicits comment on whether the Commission should: (i) Authorize use of Universal Access Transceiver technology on the 978 MHz frequency; (ii) permit licensees to utilize any emission type of their choosing in aeronautical spectrum that is not shared with other services, subject to certain conditions, and eliminate all requirements specific to data rates and modulation types, in order to accommodate new technologies such as Inmarsat's 64 kbps service; (iii) enable the use of non-geostationary satellite networks for Aeronautical Mobile Satellite (Route) Service (AMS(R)S); (iv) broaden AMS(R)S regulations so that they take account of the satellite systems of both Inmarsat and other operators; (v) adopt additional technical requirements for AMS(R)S; (vi) identify new uses for the frequencies formerly reserved for the Civil Air Patrol; (vii) remove the radionavigation allocation in the 14000-14200 MHz band; (viii) expand the availability of air traffic control spectrum for ground control communications; (ix) streamline the listing of HF band frequencies in Part 87 frequency tables; (x) codify the terms of a waiver permitting certification and use of a back-up safety device designed to supplement conventional 121.5 MHz Emergency Locator Transmitters (ELTs); (xi) codify the terms of a waiver authorizing a special station identification format to be used by aircraft being operated by maintenance personnel from one location in an airport to another location in the airport; and (xii) terminate the assignment of FCC control numbers to ultralight aircraft.

I. Procedural Matters

A. Ex Parte Rules—Permit-But-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, 47 CFR 1.415, 1.419, interested parties may file comments on or before July 12, 2004 and reply comments on or before August 10, 2004. Comments may be filed using the Commission's Electronic Comment Filing System (ECFS) or by filing paper copies.

4. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be addressed to the Commission's Secretary, Marlene H. Dortch, Office of the Secretary, Federal Communications Commission, 445 12th St., SW., Washington, DC 20554. Filings can be sent first class by the U.S. Postal Service, by an overnight courier or hand and message-delivered. Hand and message-delivered paper filings must be delivered to 236 Massachusetts Avenue, NE., Suite 110, Washington, DC 20002. Overnight courier (other than U.S. Postal Service Express Mail and Priority Mail) must be sent to 9300 East Hampton Drive, Capitol Heights, MD 20743.

5. Parties who choose to file by paper should also submit their comments on diskette. These diskettes should be submitted to: Jeffrey Tobias, Wireless Telecommunications Bureau, 445 12th St., SW., Room 4-A366, Washington, DC 20554. Such a submission should be on a 3.5 inch diskette formatted in an IBM compatible format using Microsoft Word or compatible software. The diskette should be accompanied by a cover letter and should be submitted in “read only” mode. The diskette should be clearly labeled with the commenter's name, proceeding (including the lead docket number in this case, WT Docket No. 01-289), type of pleading (comment or reply comment), date of submission, and the name of the electronic file on the diskette. The label should also include the following phrase “Disk Copy—Not an Original.” Each diskette should contain only one party's pleadings, preferably in a single electronic file. In addition, commenters should send diskette copies to the Commission's copy contractor, Qualex International, Inc., 445 12th St., SW., Room CY-B402, Washington, DC 20054.

C. Paperwork Reduction Act

6. This FNPRM does not contain any new or modified information collection.

II. Initial Regulatory Flexibility Analysis

7. As required by the RFA, the Commission has prepared an Initial Regulatory Flexibility Analysis (IRFA) of the rules proposed or discussed in the FNPRM. Written public comments are requested on the IRFA. These comments must be filed in accordance with the same filing deadlines for comments on the FNPRM in WT Docket No. 01-289, and they should have a separate and distinct heading designating them as responses to the IRFA. The Commission's Consumer and Governmental Affairs Bureau, Reference Information Center, will send a copy of the FNPRM, including the IRFA, to the Chief Counsel for Advocacy of the Small Business Administration, in accordance with the Regulatory Flexibility Act.

A. Need for, and Objectives of, the Proposed Rules

The proposed rules in the FNPRM are intended to further streamline, consolidate and clarify the Commission's part 87 rules; remove unnecessary or duplicative requirements; address new international requirements; and promote flexibility and efficiency in the use of aviation radio equipment in a manner that will further aviation safety. In the FNPRM, we request comment specifically on whether we should: (i) Accommodate use of Universal Access Transceiver technology on the frequency 978 MHz; (ii) eliminate all requirements specific to data rates and modulation types to accommodate new technologies, such as Inmarsat's new 64 kbps service; (iii) enable the use of non-geostationary satellite networks for AMS(R)S; (iv) broaden the AMS(R)S regulations to take account of satellite systems other than Inmarsat's; (v) adopt additional technical requirements for AMS(R)S; (vi) identify new uses for the frequencies formerly reserved for the Civil Air Patrol; (vii) remove the radionavigation allocation at 14000-14400 MHz; (viii) streamline the listing of HF band frequencies in part 87 frequency tables; (ix) expand the availability of air traffic control spectrum for ground control communications; (x) codify the terms of a waiver that has permitted the certification of a back-up safety device designed to supplement conventional 121.5 MHz Emergency Locator Transmitters (ELTs); and (xi) codify the terms of a waiver that authorizes a special station identification format to be used only by aircraft being operated by maintenance personnel from one location in an airport to another location in an airport.

B. Legal Basis for Proposed Rules

8. The proposed action is authorized under sections 4(i), 303(r), and 403 of the Communications Act of 1934, as amended, 47 U.S.C. 154(i), 303(r), and 403.

C. Description and Estimate of the Number of Small Entities to Which the Proposed Rules Will Apply

9. Under the RFA, small entities may include small organizations, small businesses, and small governmental jurisdictions, or entities. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (i) Is independently owned and operated; (ii) is not dominant in its field of operation; and (iii) satisfies any additional criteria established by the SBA. Pursuant to 5 U.S.C. 601(3), the statutory definition of a small business applies “unless an agency after consultation with the Office of Advocacy of the SBA, and after opportunity for public comment, establishes one or more definitions of such term which are appropriate to the activities of the agency and publishes such definition(s) in the Federal Register.”

10. Small businesses in the aviation and marine radio services use a marine very high frequency (VHF) radio, any type of emergency position indicating radio beacon (EPIRB) and/or radar, a VHF aircraft radio, and/or any type of emergency locator transmitter (ELT). The Commission has not developed a definition of small entities specifically applicable to these small businesses. For purposes of this IRFA, therefore, the applicable definition of a small entity is that under SBA rules applicable to “Cellular and Other Wireless Telecommunications.” This definition provides that a “small entity” for purposes of public coast station licensees, a subgroup of marine radio users, consists of all such firms having 1,500 or fewer employees. According to Census bureau data for 1997, there were 977 firms, total, in the category of “Cellular and other Wireless Telecommunications,” that operated for the entire year. Of this total, 965 firms had employment of 999 or fewer employees, and an additional 12 firms had employment of 1,000 employees or more. Thus under this size standard, the majority of firms can be considered small.

11. The proposed amendments may also affect small businesses that manufacture aviation radio equipment. The Commission has not developed a definition of small entities applicable specifically to Radio Frequency Equipment Manufacturers (RF Manufacturers). Therefore, the applicable definition of a small entity is the definition under SBA rules for manufacturers of “Radio and Television Broadcasting and Wireless Communications Equipment.” This NAICS category, however, is broad, and specific figures are not available as to how many of these establishments manufacture RF equipment for aviation use. Under the SBA's regulations, a radio and television broadcasting and wireless communications equipment manufacturer must have 750 or fewer employees in order to qualify as a small business concern. Census Bureau data indicates that there are 1,215 U.S. establishments that manufacture radio and television broadcasting and wireless communications equipment, and that 1,150 of these establishments have fewer than 500 employees and would be classified as small entities. The remaining 65 establishments have 500 or more employees; however, we are unable to determine how many of those have fewer than 750 employees and therefore, also qualify as small entities under the SBA definition. We therefore conclude that there are no more than 1,150 small manufacturers of radio and television broadcasting and wireless communications equipment.

D. Description of Projected Reporting, Recordkeeping, and Other Compliance Requirements

12. The FNPRM seeks comment on a number of possible rule changes that may affect reporting, recordkeeping and other compliance requirements. However, we believe that, with the exception of possible rule changes imposing additional technical requirements for certain aircraft earth stations, all of the possible rule changes discussed in the FNPRM are deregulatory in the sense that they do not impose new requirements on licensees or equipment manufacturers, but instead enhance the ability of licensees and manufacturers to provide and use new services and equipment on a permissive basis, and therefore will benefit small entities as well as the aviation community as a whole.

13. We invite comment on our tentative conclusion that the following possible rule changes will not have a negative impact on small entities, or for that matter any entities, because they would facilitate flexible use of the spectrum by licensees and/or design flexibility for manufacturers of avionics equipment, and do not impose new compliance costs on any entity: (i) Accommodating use of Universal Access Transceiver technology on the frequency 978 MHz; (ii) eliminating all requirements specific to data rates and modulation types; (iii) enabling the use of non-geostationary satellite networks for AMS(R)S; (iv) broadening the AMS(R)S regulations to take account of satellite systems other than Inmarsat's; (v) authorizing use of the 1990-2025 MHz band for AMS(R)S; (vi) reallocating the frequencies formerly reserved for the Civil Air Patrol; (vii) removing the radionavigation allocation at 14000-14400 MHz; (viii) streamlining the listing of HF band frequencies in part 87 frequency tables; (ix) expanding the number of air traffic control frequencies available for ground control communications; (x) permitting certification of back-up safety devices designed to supplement conventional 121.5 MHz Emergency Locator Transmitters (ELTs); and (xi) authorizing a special station identification format to be used by aircraft that are being operated by maintenance personnel from one location in an airport to another location in an airport. To the extent that commenters believe that any of the above possible rule changes would impose a new reporting, recordkeeping, or compliance burden on small entities, we ask that they describe the nature of that burden in some detail and, if possible, quantify the costs to small entities.

14. We tentatively conclude that any compliance burden stemming from new technical requirements for aircraft earth stations used in the provision of AMS(R)S will fall not on small entities but on large entities, such as mobile satellite system operators, airlines, and large manufacturers. We invite comment on this tentative conclusion. Commenters should identify with particularity those small entities that may be affected by these requirements, and, if possible, quantify the costs of any such requirements.

E. Steps Taken To Minimize Significant Economic Impact on Small Entities, and Significant Alternatives Considered

15. The RFA requires an agency to describe any significant alternatives that it has considered in reaching its proposed approach, which may include the following four alternatives: (i) The establishment of differing compliance or reporting requirements or timetables that take into account the resources available to small entities; (ii) the clarification, consolidation, or simplification of compliance or reporting requirements under the rule for small entities; (iii) the use of performance, rather than design, standards; and (iv) an exemption from coverage of the rule, or any part thereof, for small entities.

16. We hereby request comment on whether we can employ any of the above approaches to lessen compliance burdens on small entities if we adopt new technical requirements for aircraft earth stations. To the extent commenters believe that other of the discussed rule changes would also impose a compliance burden on small entities, we ask that they address whether any of the above approaches to reduce that burden is appropriate.

17. We hereby invite interested parties to address any or all of these regulatory alternatives and to suggest additional alternatives to minimize any significant economic impact on small entities. Any significant alternative presented in the comments will be considered.

F. Federal Rules That May Duplicate, Overlap, or Conflict With the Proposed Rules

None.

III. Ordering Clauses

18. The Commission's Consumer Information Bureau, Reference Information Center, shall send a copy of this Further Notice of Proposed Rule Making including the Initial Regulatory Flexibility Analyses to the Chief Counsel for Advocacy of the Small Business Administration.

List of Subjects in 47 CFR Part 87

Communications equipment, Radio.

Federal Communications Commission.
William F. Caton,
Deputy Secretary.

Proposed Rules

For the reasons discussed in the preamble, the Federal Communications Commission proposes to amend 47 CFR Part 87 as follows:

PART 87—AVIATION SERVICES

1. The authority citation for part 87 continues to read as follows:

Authority: 48 Stat. 1066, 1082, as amended; 47 U.S.C. 154, 303, 307(e) unless otherwise noted. Interpret or apply 48 Stat. 1064-1068, 1081-1105, as amended; 47 U.S.C. 151-156, 301-609.

2. Section 87.107 is amended by removing paragraph (a)(2), redesignate paragraphs (a)(3) through (a)(5) as paragraphs (a)(2) through (a)(4), and revise newly designated paragraph (a)(2) to read as follows:

§ 87.107 Station identification.

(a) * * *

(2) The type of aircraft followed by the characters of the registration marking (“N” number) of the aircraft, omitting the prefix letter “N.” When communication is initiated by a ground station, an aircraft station may use the type of aircraft followed by the last three characters of the registration marking. Notwithstanding any other provision of this section, an aircraft being moved by maintenance personnel from one location in an airport to another location in that airport may be identified by a station identification consisting of the name of the company owning or operating the aircraft, followed by the word “Maintenance” and additional alphanumeric characters of the licensee's choosing.

* * * * *

3. Section 87.137 is amended by adding an entry to the table in alphabetical order and by adding footnote 17 to read as follows:

§ 87.137 Types of emission.

(a) * * *

Class of emission | Emission designator | Authorized bandwidth (kilohertz): Below 50 MHz | Authorized bandwidth (kilohertz): Above 50 MHz | Authorized bandwidth (kilohertz): Frequency deviation
* * * * * * *
F1D ¹⁷ | 1M70F1D |  | 1800 kHz | 312.5 kHz.
* * * * * * *
* * * * * * *
¹⁷ Authorized only for Universal Access Transceiver use at 978 MHz.
* * * * * * *

4. Section 87.139 is amended by adding paragraph (l) to read as follows:

§ 87.139 Emission limitations.

* * * * *

(l)(1) For Universal Access Transceiver transmitters, the average emissions measured in a 100 kHz bandwidth must be attenuated below the maximum emission level by at least:

Frequency (MHz) | Attenuation (dB)
+/−0.5 | 0
+/−1.0 | 18
+/−2.25 | 50
+/−3.25 | 60

The mask shall be defined by drawing straight lines through the above points on log semi-paper.

(2) Universal Access Transceiver transmitters with an output power of 5 Watts or more must limit their emissions by at least 43 + 1-log (P) dB on any frequency removed from the assigned frequency by more than 250% of the occupied bandwidth. Occupied bandwidth is defined as 99% of the signal power measured with a bandwidth of 100 kHz. P in the above equation is the average transmitter power measured in Watts.

(3) Universal Access Transceiver transmitters with less than 5 Watts of output power must limit their emissions by at least 40 dB relative to the carrier peak on any frequency removed from the assigned frequency by more than 250% of the occupied bandwidth. Occupied bandwidth is defined as 99% of the signal power measured with a bandwidth of 100 kHz.

5. Section 87.141 is amended by adding paragraph (k) to read as follows:

§ 87.141 Modulation requirements.

* * * * *

(k) Universal Access Transceiver transmitters must use F1D modulation without phase discontinuities.

6. Section 87.173 is amended by revising the table in paragraph (b) to read as follows:

§ 87.173 Frequencies.

* * * * *

(b) Frequency table:

Frequency or frequency band | Subpart | Class of station | Remarks
90-110 kHz | Q | RL | LORAN “C”.
190-285 kHz | Q | RLB | Radiobeacons.
200-285 kHz | O | FAC | Air traffic control.
325-405 kHz | O | FAC | Air traffic control.
325-435 kHz | Q | RLB | Radiobeacons.
410.0 kHz | F | MA | International direction-finding for use outside of United States.
457.0 kHz | F | MA | Working frequency for aircraft on over-water flights.
500.0 kHz | F | MA | International calling and distress frequency for ships and aircraft on over-water flights.
510-535 kHz | Q | RLB | Radiobeacons.
2182.0 kHz | F | MA | International distress and calling.
2371.0 kHz |  |  | [Reserved].
2374.0 kHz |  |  | [Reserved].
2648.0 kHz | I | AX | Alaska station.
2850.0-3025.0 kHz | I | MA, FAE | International HF.
2851.0 kHz | I, J | MA, FAE, FAT | International HF; Flight test.
2866.0 kHz | I | MA, FAE | Domestic HF (Alaska).
2875.0 kHz | I | MA, FAE | Domestic HF.
2878.0 kHz | I | MA1, FAE | Domestic HF; International HF.
2911.0 kHz | I | MA, FAE | Domestic HF.
2956.0 kHz | I | MA, FAE | Domestic HF.
3004.0 kHz | I, J | MA, FAE, FAT | International HF; Flight test.
3019.0 kHz | I | MA1, FAE | Domestic HF; International HF.
3023.0 kHz | F, M, O | MA1, FAR, FAC | Search and rescue communications.
3281.0 kHz | K | MA, FAS | Lighter-than-air craft and aeronautical stations serving lighter-than-air craft.
3400.0-3500.0 kHz | I | MA, FAE | International HF.
3434.0 kHz | I | MA1, FAE | Domestic HF.
3443.0 kHz | J | MA, FAT |
3449.0 kHz | I | MA, FAE | Domestic HF.
3470.0 kHz | I | MA, FAE | Domestic HF; International HF.
4125.0 kHz | F | MA | Distress and safety with ships and coast stations.
4466.0 kHz |  |  | [Reserved].
4469.0 kHz |  |  | [Reserved].
4506.0 kHz |  |  | [Reserved].
4509.0 kHz |  |  | [Reserved].
4550.0 kHz | I | AX | Gulf of Mexico.
4582.0 kHz |  |  | [Reserved].
4585.0 kHz |  |  | [Reserved].
4601.0 kHz |  |  | [Reserved].
4604.0 kHz |  |  | [Reserved].
4627.0 kHz |  |  | [Reserved].
4630.0 kHz |  |  | [Reserved].
4645.0 kHz | I | AX | Alaska.
4650.0-4700.0 kHz | I | MA, FAE | International HF.
4672.0 kHz | I | MA1, FAE | Domestic HF.
4947.5 kHz | I | AX | Alaska.
5036.0 kHz | I | AX | Gulf of Mexico.
5122.5 kHz | I | AX | Alaska.
5167.5 kHz | I | FA | Alaska emergency.
5310.0 kHz | I | AX | Alaska.
5451.0 kHz | J | MA, FAT | Flight test.
5463.0 kHz | I | MA1, FAE | Domestic HF.
5469.0 kHz | J | MA, FAT | Flight test.
5472.0 kHz | I | MA, FAE | Domestic HF.
5450.0-5680.0 kHz | I | MA, FAE | International HF.
5484.0 kHz | I | MA, FAE | Domestic HF.
5490.0 kHz | I | MA, FAE | Domestic HF.
5496.0 kHz | I | MA, FAE | Domestic HF.
5508.0 kHz | I | MA1, FAE | Domestic HF.
5571.0 kHz | J | MA, FAT | Flight test.
5631.0 kHz | I | MA, FAE | Domestic HF.
5680.0 kHz | F, M, O | MA1, FAC, FAR | Search and rescue communications.
5887.5 kHz | I | AX | Alaska.
6525.0-6685.0 kHz | I | MA, FAE | International HF.
6550.0 kHz | J | MA, FAT | Flight Test.
6580.0 kHz | I | MA, FAE | Domestic HF.
6604.0 kHz | I | MA, FAE | Domestic HF.
8015.0 kHz | I | AX | Alaska.
8364.0 kHz | F | MA | Search and rescue communications.
8815.0-8965.0 kHz | I | MA, FAE | International HF.
8822.0 kHz | J | MA, FAT | Flight Test.
8855.0 kHz | I | MA, FAE | Domestic HF; international HF.
8876.0 kHz | I | MA, FAE | Domestic HF.
10005.0-10100.0 kHz | I | MA, FAE | International HF.
10045.0 kHz | J | MA, FAT | Flight Test.
10066.0 kHz | I | MA, FAE | Domestic HF; international HF.
11275.0-11400.0 kHz | J | MA, FAE | International HF.
11288.0 kHz | J | MA, FAT | Flight Test.
11306.0 kHz | J | MA, FAT | Flight Test.
11357.0 kHz | I | MA, FAE | Domestic HF.
11363.0 kHz | I | MA, FAE | Domestic HF.
13260.0-13360.0 kHz | I | MA, FAE | International HF.
13312.0 kHz | I, J | MA, FAE, FAT | International HF; Flight Test.
17900.0-17970.0 kHz | I | MA, FAE | International HF.
17964.0 kHz | J | MA, FAT | Flight Test.
21924.0-22000.0 kHz | I | MA, FAE | International HF.
21931.0 kHz | J | MA, FAT | Flight Test.
72.020-75.980 MHz | P | FA, AXO | Operational fixed; 20 kHz spacing.
75.000 MHz | Q | RLA | Marker beacon.
108.000 MHz | Q | RLT |
108.000-117.950 MHz | Q | RLO | VHF omni-range.
108.000-117.975 MHz | Q | DGP | Differential GPS.
108.050 MHz | Q | RLT |
108.100-111.950 MHz | Q | RLL | ILS Localizer.
108.100 MHz | Q | RLT |
108.150 MHz | Q | RLT |
118.000-121.400 MHz | O | MA, FAC, FAW, GCO, RCO, RPC | 25 kHz channel spacing.
121.500 MHz | G, H, I, J, K, M, O | MA, FAU, FAE, FAT, FAS, FAC, FAM, FAP | Emergency and distress.
121.600-121.925 MHz | O, L, Q | MA, FAC, MOU, RLT, GCO, RCO, RPC | 25 kHz channel spacing.
121.950 MHz | K | FAS |
121.975 MHz | F | MA2, FAW, FAC, MOU | Air traffic control operations.
122.000 MHz | F | MA, FAC, MOU | Air carrier and private aircraft enroute flight advisory service provided by FAA.
122.025 MHz | F | MA2, FAW, FAC, MOU MA, FAC, MOU | Air traffic control operations.
122.050 MHz | F | MA, FAC, MOU | Air traffic control operations.
D122.075 MHz | F | MA2, FAW, FAC, MOU | Air traffic control operations.
122.100 MHz | F, O | MA, FAC, MOU | Air traffic control operations.
122.125-122.675 MHz | F | MA2, FAC, MOU | Air traffic control operations; 25 kHz spacing.
122.700 MHz | G, L | MA, FAU, MOU | Unicom at airports with no control tower; Aeronautical utility stations.
122.725 MHz | G, L | MA, FAU, MOU | Unicom at airports with no control tower; Aeronautical utility stations.
122.750 MHz | F | MA2 | Private fixed wing aircraft air- to-air communications.
122.775 MHz | K | MA, FAS |
122.800 MHz | G, L | MA, FAU, MOU | Unicom at airports with no control tower; Aeronautical utility stations.
122.825 MHz | I | MA, FAE | Domestic VHF.
122.850 MHz | H, K | MA, FAM, FAS |
122.875 MHz | I | MA, FAE | Domestic VHF.
122.900 MHz | F, H, L, M | MA, FAR, FAM, MOU |
122.925 MHz | H | MA2, FAM |
122.950 MHz | G, L | MA, FAU, MOU | Unicom at airports with no control tower; Aeronautical utility stations.
122.975 MHz | G, L | MA, FAU, MOU | Unicom at airports with no control tower; Aeronautical utility stations.
123.000 MHz | G, L | MA, FAU, MOU | Unicom at airports with no control tower; Aeronautical utility stations.
123.025 MHz | F | MA2 | Helicopter air-to-air communications; Air traffic control operations.
123.050 MHz | G, L | MA, FAU, MOU | Unicom at airports with no control tower; Aeronautical utility stations.
123.075 MHz | G, L | MA, FAU, MOU | Unicom at airports with no control tower; Aeronautical utility stations.
123.100 MHz | M, O | MA, FAC, FAR |
123.125 MHz | J | MA, FAT | Itinerant.
123.150 MHz | J | MA, FAT | Itinerant.
123.175 MHz | J | MA, FAT | Itinerant.
123.200 MHz | J | MA, FAT |
123.225 MHz | J | MA, FAT |
123.250 MHz | J | MA, FAT |
123.275 MHz | J | MA, FAT |
123.300 MHz | K | MA, FAS |
123.325 MHz | J | MA, FAT |
123.350 MHz | J | MA, FAT |
123.375 MHz | J | MA, FAT |
123.400 MHz | J | MA, FAT | Itinerant.
123.425 MHz | J | MA, FAT |
123.450 MHz | J | MA, FAT |
123.475 MHz | J | MA, FAT |
123.500 MHz | K | MA, FAS |
123.525 MHz | J | MA, FAT |
123.550 MHz | J | MA, FAT |
123.575 MHz | J | MA, FAT |
123.6-128.8 MHz | O | MA, FAC, FAW, GCO, RCO, RPC | 25 kHz channel spacing.
128.825-132.000 MHz | I | MA, FAE | Domestic VHF; 25 kHz channel spacing.
132.025-135.975 MHz | O | MA, FAC, MHz FAW, GCO, RCO, RPC | 25 kHz channel spacing.
136.000-136.400 MHz | O, S | MA, FAC, FAW, GCO, RCO, RPC | Air traffic control operations; 25 kHz channel spacing.
136.425 MHz | O, S | MA, FAC, FAW, GCO, RCO, RPC | Air traffic control operations.
136.450 MHz | O, S | MA, FAC, FAW, GCO, RCO, RPC | Air traffic control operations.
136.475 MHz | O, S | MA, FAC, FAW, GCO, RCO, RPC | Air traffic control operations.
136.500-136.875 MHz | I | MA, FAE | Domestic VHF; 25 kHz channel spacing.
136.900 MHz | I | MA, FAE | International and domestic VHF.
136.925 MHz | I | MA, FAE | International and domestic VHF.
136.950 MHz | I | MA, FAE | International and domestic VHF.
136.975 MHz | I | MA, FAE | International and domestic VHF.
156.300 MHz | F | MA | For communications with ship stations under specific conditions.
156.375 MHz | F | MA | For communications with ship stations under specific conditions; Not authorized in New Orleans Vessel traffic service area.
156.400 MHz | F | MA | For communications with ship stations under specific conditions.
156.425 MHz | F | MA | For communications with ship stations under specific conditions.
156.450 MHz | F | MA | For communications with ship stations under specific conditions.
156.625 MHz | F | MA | For communications with ship stations under specific conditions.
156.800 MHz | F | MA | Distress, safety and calling frequency; For communications with ship stations under specific conditions.
156.900 MHz | F | MA | For communications with ship stations under specific conditions.
157.425 MHz | F | MA | For communications with commercial fishing vessels under specific conditions except in Great Lakes and St. Lawrence Seaway Areas.
243.000 MHz | F | MA | Emergency and distress frequency for use of survival craft and emergency locator transmitters.
328.600-335.400 MHz | Q | RLG | ILS glide path.
334.550 MHz | Q | RLT |
334.700 MHz | Q | RLT |
406-406.1 MHz | F, G, H, I, J, K, M, O | MA, FAU, FAE, FAT, FAS, FAC, FAM, FAP | Emergency and distress.
960-1215 MHz | F, Q | MA, RL, RNV | Electronic aids to air navigation.
978.000 MHz | Q | RLT |
979.000 MHz | Q | RLT |
1030.000 MHz | Q | RLT |
1104.000 MHz | Q | RLT |
1300-1350 MHz | F, Q | MA, RLS | Surveillance radars and transponders.
1435-1535 MHz | F, J | MA, FAT | Aeronautical telemetry and telecommand operations.
1559-1610 MHz | Q | DGP | Differential GPS.
1559-1626.5 MHz | F, Q | MA, RL | Aeronautical radionavigation.
1646.5-1660.5 MHz | F | TJ | Aeronautical Mobile-Satellite (R).
2310-2390 MHz | J | MA, FAT | Aeronautical telemetry and telecommand operations.
2700-2900 MHz | Q | RLS, RLD | Airport surveillance and weather radar.
4200-4400 MHz | F | MA | Radio altimeters.
5000-5250 MHz | Q | MA, RLW | Microwave landing systems.
5031.000 MHz | Q | RLT |
5350-5470 MHz | F | MA | Airborne radars and associated airborne beacons.
8750-8850 MHz | F | MA | Airborne doppler radar.
9000-9200 MHz | Q | RLS, RLD | Land-based radar.
9300-9500 MHz | F, Q | MA | Airborne radars and associated airborne beacons.
13250-13400 MHz | F | MA | Airborne doppler radar.
15400-15700 MHz | Q | RL | Aeronautical radionavigation.
24750-25050 MHz | F, Q | MA, RL | Aeronautical radionavigation.
32300-33400 MHz | F, Q | MA, RL | Aeronautical radionavigation.

7. Section 87.187 is amended by revising paragraph (x) and adding paragraph (ee) to read as follows:

§ 87.187 Frequencies.

* * * * *

(x) The frequency bands 24250-24450 MH, 24650-24750 MHz and 32300-33400 MHz are available for airborne radionavigation devices.

* * * * *

(ee) The frequency 978 MHz is authorized for Universal Access Transceiver data transmission.

8. Section 87.263 is amended by revising introductory paragraphs (d) and (e) and adding paragraph (g) to read as follows:

§ 87.263 Frequencies.

* * * * *

(d) International HF Service. High frequencies for enroute stations serving international flight operations on the Major World Air Route Areas (MWARAs), as defined in the international Radio Regulations and the ICAO Assignment Plan, may be authorized in accordance with Appendix S27 to the Radio Regulations.

* * * * *

(e) Long distance operational control. Long distance operational control frequencies provide communications between aeronautical enroute stations and aircraft stations anywhere in the world for control of the regularity and efficiency of flight and safety of aircraft. World-wide frequencies are not assigned by administrations for MWARA and Regional and Domestic Air Route Area (RDARA). Long distance operational control frequencies will be authorized in accordance with Appendix S27 of the international Radio Regulations.

* * * * *

(g) The frequency 978 MHz is authorized for Universal Access Transceiver data transmission.

9. Section 87.345 is amended by adding paragraph (f) to read as follows:

§ 87.345 Scope of service.

* * * * *

(f) Transmissions by aeronautical utility mobile stations for Universal Access Transceiver service are authorized.

10. Section 87.349 is amended by adding paragraph (e) to read as follows:

§ 87.349 Frequencies.

* * * * *

(e) The frequency 978.0 MHz is authorized for Universal Access Transceiver data transmission.

11. Section 87.375 is amended by adding paragraph (e) to read as follows:

§ 87.375 Frequencies.

* * * * *

(e) The frequency 978.0 MHz is authorized for Universal Access Transceiver data transmission.

12. Section 87.417 is amended by adding paragraph (c) to read as follows:

§ 87.417 Scope of service.

* * * * *

(c) The frequency 978.0 MHz is authorized for Universal Access Transceiver data transmission.

13. Section 87.421 is amended by revising paragraph (c) to read as follows:

§ 87.421 Frequencies.

* * * * *

(c) Frequencies in the bands 118.000-121.400 MHz, 121.600-121.925 MHz, 123.600-128.800 MHz, and 132.025-135.975 MHz are available to control towers and RCOs for communications with ground vehicles and aircraft on the ground. The antenna heights shall be restricted to the minimum necessary to achieve the required coverage. Channel spacing is 25 kHz.

* * * * *

14. Section 87.475 is amended by adding paragraphs (b)(9) through (b)(15) and revising paragraphs (c)(1) and (c)(2) to read as follows:

§ 87.475 Frequencies.

(b) * * *

(9) 2700-2900 MHz: Non-Government land-based radars may be licensed. U.S. Government coordination is required. Applicants must demonstrate a need for the service which the Government is not prepared to render.

(10) 5000-5250 MHz: This band is to be used for the operation of the international standard system (microwave landing system).

(11) 9000-9200 MHz: This band is available to land-based radars. Stations operating in this band may receive interference from stations operating in the radiolocation service.

(12) 14,000-14,400 MHz: This band is available for use in the aeronautical radionavigation service.

(13) 15,400-15,700 MHz: This band is available for use of land stations associated with airborne electronic aids to air navigation.

(14) 24,250-25,250, 31.800-33.400 MHz: In these bands, land-based radionavigation aids are permitted where they operate with airborne radionavigation devices.

(15) 978.0 MHz is authorized for Universal Access Transceiver service.

(c) Frequencies available for radionavigation land test stations. (1) The frequencies set forth in § 87.187(c), (e) through (j), (r), (t), and (ee) and § 87.475(b)(6) through (10) and (12) may be assigned to radionavigation land test stations for the testing of aircraft transmitting equipment that normally operates on these frequencies and for the testing of land-based receiving equipment that operates with airborne radionavigation equipment.

(2) The frequencies available for assignment to radionavigation land test stations for the testing of airborne receiving equipment are 108.000 and 108.050 MHz for VHF omni-range; 108.100 and 108.150 MHz for localizer; 334.550 and 334.700 MHz for glide slope; 978 and 979 MHz (X channel)/1104 MHz (Y channel) for DME; 978 MHz for Universal Access Transceiver; 1030 MHz for air traffic control radar beacon transponders; and 5031.0 MHz for microwave landing systems. Additionally, the frequencies in paragraph (b) of this section may be assigned to radionavigation land test stations after coordination with the FAA. The following conditions apply:

(i) The maximum power authorized on the frequencies 108.150 and 334.550 MHz is 1 milliwatt. The maximum power authorized on all other frequencies is one watt.

(ii) The pulse repetition rate (PRR) of the 1030 MHz ATC radar beacon test set will be 235 pulses per second (pps) ±5pps.

(iii) The assignment of 108.000 MHz is subject to the condition that no interference will be caused to the reception of FM broadcasting stations and stations using the frequency are not protected against interference from FM broadcasting stations.

* * * * *

[FR Doc. 04-8121 Filed 4-9-04; 8:45 am]

BILLING CODE 6712-01-P